ENVIRONMENTAL PROTECTION AGENCY

40 CFR Part 70

[NC-FORS-T5-2000-01b; FRL-6712-4]

Clean Air Act Proposed Full Approval of Operating Permit Program; Forsyth County (NC)

AGENCY: Environmental Protection Agency (EPA).

ACTION: Proposed rule.

SUMMARY: EPA proposes full approval of the operating permit program of Forsyth County, North Carolina. In the final rules section of this Federal Register, EPA is approving the County's operating permit program as a direct final rule without prior proposal because the Agency views this as a noncontroversial amendment and anticipates no adverse comments. An explanation for the approval is set forth in the direct final rule. If no adverse comments are received in response to this action, no further activity is contemplated. If EPA receives adverse comments, the direct final rule will be withdrawn and all public comments will be addressed in a subsequent final rule based on this proposed rule. EPA will not institute a second comment period on this action. Any parties interested in commenting should do so at this time.

DATES: Written comments must be received by July 24, 2000.

ADDRESSES: Address comments to Kim Pierce, Regional Title V Program Manager, Operating Source Section, Air & Radiation Technology Branch, EPA, 61 Forsyth Street, SW, Atlanta, Georgia 30303. Copies of the County's submittals and other supporting documentation relevant to this action are available for inspection during normal business hours at EPA, Air & Radiation Technology Branch, 61 Forsyth Street, SW, Atlanta, Georgia 30303.

FOR FURTHER INFORMATION CONTACT: Kim Pierce, EPA, Region 4, at (404) 562-9124.

SUPPLEMENTARY INFORMATION: For additional information see the direct final rule which is published in the final rules section of this Federal Register.

Dated: June 8, 2000.
Phyllis P. Harris,
Acting Regional Administrator, Region 4.

[FR Doc. 00-15291 Filed 6-21-00; 8:45 am]

BILLING CODE 6560-50-P